DEPARTMENT OF DEFENSE

Office of the Secretary

Defense Business Practice Implementation Board; Notice of Advisory Committee Meeting

AGENCY: Department of Defense.

ACTION: Notice of advisory committee meeting.

SUMMARY: The Defense Business Practice Implementation Board (DBB) will meet in open session on Wednesday, January 29, 2003, at the Pentagon, Washington, DC from 0900 until 1000. The mission of the DBB is to advise the Senior Executive Council (SEC) and the Secretary of Defense on effective strategies for implementation of best business practices of interest to the Department of Defense. At this meeting, the Board's Human Resource Task Group will deliberate on its findings and proposed recommendations related to tasks assigned last year. Additional, task groups may deliberate on proposed recommendations.

DATES: Wednesday, January 29, 2003, 0900 to 1000 hrs.

ADDRESSES: Pentagon, Washington, DC.

FOR FURTHER INFORMATION CONTACT: The DBB may be contacted at: Defense Business Practice Implementation Board, 1100 Defense Pentagon, Washington, DC 20301-1100, via E-mail DBB@osd.pentagon.mil, or via phone at (703) 695-0505.

SUPPLEMENTARY INFORMATION: Members of the public who wish to attend the meeting must contact the DBB no later than Wednesday, January 22 for further information about admission as seating is limited.

Additionally, those who wish to make oral comments or deliver written comments should also request to be scheduled, and submit a written text of the comments by Tuesday, January 21 to allow time for distribution to the Board members prior to the meeting.

Individual oral comments will be limited to five minutes, with the total oral comment period not exceeding thirty-minutes.

Dated: January 8, 2003.
Patricia L. Toppings,
Alternate OSD Federal Register Liaison Officer, Department of Defense.

[FR Doc. 03-781 Filed 1-14-03; 8:45 am]

BILLING CODE 5001-08-M